DEPARTMENT OF LABOR

Employment and Training Administration

[TA-W-70,813]

Sparton Electronics; Including On-Site Leased Workers From Kelly Services, et al.; Jackson, MI; Amended Certification Regarding Eligibility To Apply for Worker Adjustment Assistance

In accordance with Section 223 of the Trade Act of 1974, as amended (“Act”), 19 U.S.C. 2273, the Department of Labor issued a Certification of Eligibility to Apply for Worker Adjustment Assistance on July 29, 2009, applicable to workers of Sparton Electronics, including on-site leased workers from Kelly Services, Manpower of Jackson, HRU, Inc., Technical Resources and Patriot Technical, Jackson, Michigan. The notice will be published soon in the Federal Register.

At the request of the State Agency, the Department reviewed the certification for workers of the subject firm. The workers are engaged in the production of electronic circuit boards.

The company reports that on-site leased workers from CSS USA were employed on-site at the Jackson, Michigan location of Sparton Electronics. The Department has determined that these workers were sufficiently under the control of the subject firm to be considered leased workers.

Based on these findings, the Department is amending this certification to include workers leased from CSS USA working on-site at the Jackson, Michigan location of Sparton Electronics.

The amended notice applicable to TA-W-70,813 is hereby issued as follows:

All workers of Sparton Electronics, including on-site leased workers from Kelly Services, Manpower of Jackson, HRU, Inc., Technical Resources, Patriot Technical and CSS USA, Jackson, Michigan, who became totally or partially separated from employment on or after May 19, 2008, through July 29, 2011, and all workers in the group threatened with total or partial separation from employment on date of certification through two years from the date of certification, are eligible to apply for adjustment assistance under Chapter 2 of Title II of the Trade Act of 1974, as amended.

Signed at Washington, DC, this 29th day of September 2009.
Elliott S. Kushner,
Certifying Officer, Division of Trade Adjustment Assistance.

[FR Doc. E9-25158 Filed 10-19-09; 8:45 am]

BILLING CODE 4510-FN-P